DEPARTMENT OF COMMERCE

Foreign-Trade Zones Board

[B-39-2015]

Foreign-Trade Zone (FTZ) 64—Jacksonville, Florida; Notification of Proposed Production Activity; Saft America Inc. (Lithium-Ion Batteries); Jacksonville, Florida

The Jacksonville Port Authority, grantee of FTZ 64, submitted a notification of proposed production activity to the FTZ Board on behalf of Saft America Inc. (Saft), located in Jacksonville, Florida. The notification conforming to the requirements of the regulations of the FTZ Board (15 CFR 400.22) was received on June 1, 2015.

The Saft facility is located within Site 10 of FTZ 64. The facility is used for the warehousing, production and distribution of lithium-ion batteries. Pursuant to 15 CFR 400.14(b), FTZ activity would be limited to the specific foreign-status materials and components and specific finished products described in the submitted notification (as described below) and subsequently authorized by the FTZ Board.

Production under FTZ procedures could exempt Saft from customs duty payments on the foreign status components used in export production. On its domestic sales, Saft would be able to choose the duty rates during customs entry procedures that apply to: Lithium-ion batteries; lithium-ion batteries for vehicles; lithium-ion battery covers and jelly rolls; battery terminals; and, battery components (duty rate 3.4%) for the foreign status inputs noted below. Customs duties also could possibly be deferred or reduced on foreign status production equipment.

The components and materials sourced from abroad include: Natural graphite powder; lithium nickel cobalt; plastic casing; PVC sleeves; stand wire cables for batteries; wire fitted parts; aluminum can stocks; aluminum cans; storage battery modules; lithium-ion batteries and internal components; connecting cables; board panels; electrical circuits; copper cables; ocean-ready containers; and, battery test systems (duty rate ranges from duty-free to 5.8%).

Public comment is invited from interested parties. Submissions shall be addressed to the Board's Executive Secretary at the address below. The closing period for their receipt is July 22, 2015.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: June 9, 2015.
Elizabeth Whiteman,
Acting Executive Secretary.

[FR Doc. 2015-14453 Filed 6-11-15; 8:45 am]

BILLING CODE 3510-DS-P